DEPARTMENT OF THE INTERIOR

Bureau of Indian Affairs

[145A2100DD AAK4000000 A0R9B0000.999900]

Renewal of Agency Information Collection for Probate of Indian Estates

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information titled “Probate of Indian Estates, Except for Members of the Osage Nation and the Five Civilized Tribes.” The information collection is currently authorized by OMB Control Number 1076-0169, which expires February 28, 2015.

DATES: Interested persons are invited to submit comments on or before March 16, 2015.

ADDRESSES: You may submit comments on the information collection to the Desk Officer for the Department of the Interior at the Office of Management and Budget, by facsimile to (202) 395-5806 or you may send an email to: OIRA_Submission@omb.eop.gov. Please send a copy of your comments to Charlene Toledo, Bureau of Indian Affairs, Office of Trust Services, Division of Probate Services 2600 N Central Ave STE MS 102, Phoenix, AZ 85004: Charlene.Toledo@bia.gov.

FOR FURTHER INFORMATION CONTACT: Charlene Toledo, (505) 563-3371. You may review the information collection request online at http://www.reginfo.gov. Follow the instructions to review Department of the Interior collections under review by OMB.

SUPPLEMENTARY INFORMATION:

I. Abstract

The Secretary of the Interior probates the estates of individual Indians owning trust or restricted property in accordance with 25 U.S.C. 372-373. In order to compile the probate file, the Bureau of Indian Affairs (BIA) must obtain information regarding the deceased from individuals and the tribe. This request for renewal makes adjustments to reflect the accurate number of respondents. As a result, the estimated burden hours has increased from 1,037,493 to 1,037,513 hours. No other changes were made to the information collection.

II. Request for Comments

On October 28, 2014, the BIA published a notice announcing the renewal of this information collection and provided a 60-day comment period in the Federal Register (79 FR 64210). The BIA received one comment in response to this notice. The commenter expressed disagreement with the application of the Act of August 4, 1947, 61 Stat. 731, and proposed repealing of the 1947 Act would reduce the burden in collecting information for probate of restricted land. However, the data for this information collection is collected under 25 U.S.C. 372-373, which does not apply to members of the Five Civilized Tribes. Therefore, no changes were made to this information collection.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0169.

Title: Probate of Indian Estates, Except for Members of the Osage Nation and Five Civilized Tribes.

Brief Description of Collection: This part contains the procedures that the Secretary of the Interior follows to initiate the probate of the trust estate for a deceased person who owns an interest in trust or restricted property. The Secretary must perform the information collection requests in this part to obtain the information necessary to compile an accurate and complete probate file. This file will be forwarded to the Office of Hearing and Appeals (OHA) for disposition. Responses to these information collection requests are required to create a probate file for the decedent's estate so that OHA can determine the heirs of the decedent and order distribution of the trust assets in the decedent's estate. A response is required to obtain or retain a benefit.

Type of Review: Extension without change of currently approved collection.

Respondents: Indians, businesses, and tribal authorities.

Number of Respondents: 65,751.

Frequency of Response: One per respondent each year with the exception of tribes that may be required to provide enrollment information on an average of approximately 10 times/year.

Estimated Total Annual Responses: 76,695.

Estimated Time per Response: Ranges from 0.5 hours to 45.5 hours (see table below).

CFR Section | Description of info collection requirement | Number of responses per yr | Hours per response | Total burden hours
15.9 | File affidavit to self-prove will, codicil, or revocation | 1,000 | 0.5 | 500
15.9 | File supporting affidavit to self-prove will, codicil, or revocation | 2,000 | 0.5 | 1,000
15.104 | Reporting req.-death certificate | 5,850 | 5 | 29,250
15.105 | Provide probate documents | 21,235 | 45.5 | 966,193
15.203 | Provide tribal information for probate file | 5,660 | 2 | 11,320
15.301 | Reporting funeral expenses | 5,850 | 2 | 11,700
15.305 | Provide info on creditor claim (6 per probate) | 35,100 | 0.5 | 17,550
Total |  | 76,695 |  | 1,037,513

Estimated Total Annual Hour Burden: 1,037,513.

Estimated Total Annual Non-Hour Dollar Cost: $0.

Dated: February 10, 2015.
Elizabeth K. Appel,
Director, Office of Regulatory Affairs and Collaborative Action—Indian Affairs.

[FR Doc. 2015-03045 Filed 2-12-15; 8:45 am]

BILLING CODE 4310-W7-P